DEPARTMENT OF AGRICULTURE

Rural Utilities Service

Notice of Funds Availability for the Technical Assistance and Training for Innovative Regional Wastewater Treatment Solutions Grant Pilot Program

AGENCY: Rural Utilities Service, USDA.

ACTION: Notice of funds availability.

SUMMARY: Rural Utilities Services (RUS), a Rural Development agency of the United States Department of Agriculture (USDA), announces the availability of up to $5 million in competitive grants to eligible entities to fund a new pilot program. This pilot program, called the Technical Assistance and Training for Innovative Regional Wastewater Treatment Solutions (TAT/RWTS) Grant Pilot Program, was authorized by the Further Consolidated Appropriations Act, 2020, for the study and design of innovative treatment solutions of regional wastewater systems for historically impoverished communities that have had difficulty installing traditional wastewater treatment systems due to soil conditions.

DATES: Applications for TAT/RWTS grant(s) must be submitted electronically through Grants.gov by 11:59 p.m. Eastern Daylight Time by November 4, 2020. Applications received after 11:59 p.m. Eastern Daylight Time on November 4, 2020 will not be considered.

ADDRESSES:

Application Submission: The application system for electronic submissions will be available at http://www.grants.gov/.

Electronic submissions: Electronic submissions of applications will allow for the expeditious review of an Applicant's proposal. As a result, all applicants must file their application electronically.

For additional information contact: Lois East: Telephone (660) 492-4268, email: lois.east@usda.gov. Persons with disabilities that require alternative means for communication should contact the U.S. Department of Agriculture (USDA) Target Center at (202) 720-2600 (voice).

SUPPLEMENTARY INFORMATION: Authority: This solicitation is issued pursuant to 5 U.S.C. 301; 7 U.S.C. 1989; 16 U.S.C. 1005; and Division B, Title VII General Provisions, Section 783 of the Further Consolidated Appropriations Act, 2020 (Pub. L. 116-94).

Overview

Federal Agency: Rural Utilities Service (RUS), (USDA).

Funding Opportunity Title: Technical Assistance and Training for Innovative Regional Wastewater Treatment Solutions (TAT/RWTS) Grant Pilot Program.

Announcement Type: Notice of Funds Availability.

Catalog of Federal Domestic Assistance (CFDA) Number: Technical Assistance and Training and Training for Innovative Regional Wastewater Treatment Solutions (TAT/RWTS) Grant Pilot Program—10.761.

Due Date for Applications: Applications for TAT/RWTS grant(s) must be received by 11:59 p.m. on November 4, 2020. Applications received after 11:59 p.m. Eastern Daylight Time on November 4, 2020 will not be considered.

Items in Supplementary Information

I. Program Overview

II. Federal Award Information

III. Definitions

IV. Eligibility Information

V. Application and Submission Information

VI. Application Review Information

VII. Federal Award Administration Information

VIII. Federal Awarding Agency Contacts

IX. Other Information

I. Program Overview

A. Background

Wastewater systems are basic and vital to both health and economic development. With environmentally sound waste disposal, rural communities can attract families and businesses that will invest in the community and improve the quality of life for all residents. Without safe and clean wastewater facilities, communities cannot sustain economic development or ensure the mitigation of health risks that can arise from poor sanitation.

USDA's Rural Development Agencies, comprising the Rural Utilities Service (RUS), Rural Business-Cooperative Service (RB-CS), and Rural Housing Service (RHS), are leading the way in helping rural America improve the quality of life and increase the economic opportunities for rural people. RUS provides financing for much-needed infrastructure or infrastructure improvements to rural communities, which includes Water and Environmental Programs (WEP). WEP provides the technical assistance and financing necessary to develop, improve, and operate drinking water and waste disposal systems. Safe drinking water and sanitary waste disposal systems are vital to public health, and to the economic vitality of rural America. WEP is proud to be the only federal program exclusively focused on the water and waste infrastructure needs of rural communities with populations of 10,000 or less. Additionally, WEP provides funding to organizations that provide technical assistance and training to rural communities to support water and waste activities and is administered through National Office staff in Washington, DC, and a network of field staff in each state.

On December 20, 2019, Congress passed the Further Consolidated Appropriations Act, 2020, which established a pilot program, the Technical Assistance and Training for Innovative Regional Wastewater Treatment Solutions (TAT/RWTS) Grant Pilot Program, to assist communities with wastewater systems. Specifically, Congress was concerned about raw sewage discharge in some rural communities, particularly historically impoverished communities that have had difficulty utilizing Rural Development programs. Rural Development was directed to develop a program to solve untreated raw sewage issues with innovative technologies and strategic management and regulatory models. The program is to address rural wastewater management including county needs assessments, testing wastewater options, defining funding mechanisms for remediation and developing regulatory guidance. Congress appropriated $5 million in grant funding for the TAT/RWTS Grant Pilot Program in the Further Consolidated Appropriations Act, 2020, which is made available under this notice.

B. Program Description

Qualified regional consortiums will receive TAT/RWTS grant funds to identify and evaluate economically feasible, innovative regional solutions to wastewater treatment concerns for historically impoverished communities in areas which have had difficulty installing traditional wastewater treatment systems due to soil conditions. Grants are for wastewater-related technical assistance, including such services as feasibility studies, preliminary design assistance and supervision, oversight, or training for the development of an application for financial assistance.

Grantees will be expected to provide the Agency with a detailed report to include the area to be served, the issues with the present method of wastewater discharge, the alternatives and innovative solutions to the wastewater issue, the long-term cost and effect of the solution, the affordability including possible funding sources, potential treatment, staff training needs, and lifecycle cost analysis.

II. Federal Award Information

A. Catalog of Federal Domestic Assistance (CFDA) Number: 10.761

Catalog of Federal Domestic Assistance (CFDA) Title: Technical Assistance and Training for Innovative Regional Wastewater Treatment Solutions (TAT/RWTS) Grant Pilot Program.

B. Funds Available

Under the TAT/RWTS Grant Pilot Program, up to $5 million is made available to eligible applicants, to remain available until expended.

C. Approximate Number of Awards

The number of awards will depend on the number of eligible applicants and the total amount of requested funds. The Agency intends/expects to make approximately 2-3 awards in this fiscal year, to remain available until expended.

D. Type of Instrument

Awards to successful applicants will be in the form of grants, for up to 100 percent of total eligible project costs, but not to exceed $5 million, whichever is less.

III. Definitions

The terms and conditions provided in this Notice of Solicitation of Application (NOSA) are applicable to and for purposes of this NOSA only. Unless otherwise provided in the award documents, all financial terms not defined herein shall have the meaning as defined by Generally Accepted Accounting Principles (GAAP).

Consortium means regional institutions of higher education, academic health and research institutes, or economic development entities, or combination thereof, located in the region identified to be served that have experience in addressing these issues in the region.

Eligible Project Costs means only those costs incurred during the grant period and that are directly related to the use and purposes of the TAT/RWTS Grant Pilot Program.

GAAP means accounting principles generally accepted in the United States of America.

Historically impoverished area means an area meeting persistent poverty guidelines, which according to Section 740 of the General Provisions of the Further Consolidated Appropriations Act, 2020, Public Law 116-94, dated December 20, 2019, is any county that has had 20 percent or more of its population living in poverty over the past 30 years, as measured by the 1990 and 2000 decennial censuses, and 2007-2011 American Community Survey 5-year average.

Rural means cities, towns, or unincorporated areas that individually have populations of no more than 10,000 inhabitants as adjusted by exclusion of individuals incarcerated on a long-term or regional basis and the exclusion of the first 1,500 individuals who reside in housing located on a military base, according to the most recent decennial Census of the United States. The area to be served may be made up of combinations of these eligible areas. If the applicable population figure cannot be obtained from the most recent decennial Census, RD will determine the applicable population figure based on available population data.

IV. Eligibility Information

A. Eligible Applicants

Regional consortia located in the United States and its territories may apply for this grant program. Eligible entities would include a consortium of regional institutions of higher education, academic health and research institutes, or economic development entities located in the region identified to be served that have experience in addressing these issues in the region. The consortium must include a regional university, or the proposed scope of work must include coordinating with a regional university, to solve untreated raw sewage issues with innovative technologies and strategic management and regulatory models.

Applicants must include all proposed activity under a single application. Application requirements and other important information is available at Grants.gov and on the TAT/RWTS web page https://www.rd.usda.gov/programs-services/water-waste-disposal-technical-assistance-training-grants.

An applicant is eligible to apply for the TAT/RWTS grant if it:

(1) Is a consortium (as defined in the definitions section of this notice);

(2) Is legally established and located within one of the following:

(a) A state within the United States;

(b) The District of Columbia;

(c) The Commonwealth of Puerto Rico; or

(d) A United States territory;

(3) Has the legal capacity and authority to carry out the grant purpose;

(4) Has no delinquent debt to the federal government or no outstanding judgments to repay a federal debt;

(5) Demonstrates that it possesses the financial, technical, and managerial capability to comply with federal and state laws and requirements; and,

(6) Is not a corporation that has been convicted of a felony (or had an officer or agent acting on behalf of the corporation convicted of a felony) within the past 24 months. Any corporation that has any unpaid federal tax liability that has been assessed, for which all judicial and administrative remedies have been exhausted or have lapsed, and that is not being paid in a timely manner pursuant to an agreement with the authority responsible for collecting the tax liability is not eligible.

B. Eligible Project

The goal of the TAT/RWTS Grant Pilot Program is to find regional solutions to longstanding wastewater treatment problems where soil conditions make traditional wastewater treatment ineffective and economically unfeasible. Grant funds must be used to identify and evaluate economically feasible innovative regional solutions to wastewater treatment concerns for historically impoverished rural communities in areas which have had difficulty installing traditional wastewater treatment systems due to soil conditions.

C. Eligible Project Costs

Eligible Project Costs are those costs defined in Section III. Grant funds must be used to identify and evaluate innovative regional solutions to wastewater treatment solutions for historically impoverished communities in areas which have had difficulty installing traditional wastewater treatment systems due to soil conditions.

The work product must be related to the purpose above and be related to a proposed project that meets the following requirements:

(1) MUST be regional in scope; and be for one of the following:

(2) To construct, enlarge, extend or otherwise improve rural wastewater facilities; or

(3) To construct or relocate public buildings, roads, bridges, fences, or utilities; and to make other public improvements necessary for the successful operation or protection of facilities authorized in paragraph (2) of this section; or

(4) To relocate private buildings, roads, bridges, fences, or utilities, and to make other private improvements necessary for the successful operation or protection of facilities authorized in paragraph (2) of this section.

D. Ineligible Project Costs

Grant funds may not be used to:

(1) Fund political or lobbying activities;

(2) Pay for work already completed;

(3) Purchase real estate or vehicles, improve or renovate office space, or repair and maintain privately owned property;

(4) Construct or furnish a building;

(5) Intervene in the federal regulatory or adjudicatory proceedings;

(6) Sue the Federal Government or any other government entities;

(7) Pay for any other costs that are not allowable under 2 CFR part 200, as adopted by USDA through 2 CFR part 400;

(8) Make contributions or donations to others;

(9) Fund projects that duplicate technical assistance given to implement action plans under the National Forest Dependent Rural Communities Economic Diversification Act of 1990 (7 U.S.C. 6613). Applicants cannot receive both grants made under this part and grants that the Forest Service makes to implement the action plans for five continuous years from the date of grant approval by the Forest Services;

(10) To pay an outstanding judgment obtained by the United States in a Federal Court (other than in the United States Tax Court), which has been recorded. An applicant will be ineligible to receive a grant until the judgment is paid in full or otherwise satisfied; and

(11) Any project that creates a conflict of interest or an appearance of a conflict of interest.

V. Application and Submission Information

A. Electronic Application and Submission

Applications must be submitted electronically using www.grants.gov. No other form of application will be accepted. Application and supporting materials are available at Grants.gov.

B. Content and Form of Application Submission

You must submit your application electronically through Grants.gov. Your application must contain all required information.

To apply electronically, you must follow the instructions for this funding announcement at http://www.grants.gov. Please note that we cannot accept applications through mail or courier delivery, in-person delivery, email, or fax.

You can locate the Grants.gov downloadable application package for this program by using a keyword, the program name, or the Catalog of Federal Domestic Assistance Number for this program.

When you enter the Grants.gov website, you will find information about applying electronically through the site, as well as the hours of operation.

To use Grants.gov, you must already have a Data Universal Number System (DUNS) number and you must also be registered and maintain registration in System for Award Management (SAM). We strongly recommend that you do not wait until the application deadline date to begin the application process through Grants.gov (see paragraph (a) below for more on flexibility).

You must submit all application documents electronically through Grants.gov. Applications must include electronic signatures. Original signatures may be required if funds are awarded.

After applying electronically through Grants.gov, you will receive an automatic acknowledgement from Grants.gov that contains a Grants.gov tracking number.

(1) Applicants must complete and submit the following forms to apply for a TAT/RWTS grant:

(a) Standard Form SF-424, “Application for Federal Assistance,” to include your DUNS number. You must also provide your SAM Commercial and Government Entity (CAGE) Code and expiration date under the applicant eligibility discussion in your proposal narrative. If you do not include the CAGE code and expiration date and the DUNS number in your application, it will not be considered for funding. In accordance with OMB Memoranda M-20-26, the Agency can accept an application without an active SAM registration. However, the registration must be completed before an award is made. Current registrants in SAM with active registrations expiring before May 16, 2020 will be afforded a one-time extension of 60 days.

(b) Form SF-424A, “Budget Information for Non-Construction Programs.” This form must be completed and submitted as part of the application package. You no longer must complete the Form SF 424B, “Assurances Non-Construction Programs” as a part of your application. This information is now collected through your registration or annual recertification in sam.gov through the Financial Assistance General Certifications and Representation.

(c) Form RD 400-1, “Equal Opportunity Agreement;”

(d) Indirect Cost Rate Agreement (if applicable, applicant must include approved cost agreement rate schedule);

(e) Certification regarding Forest Service grant; and

(2) All applications shall be accompanied by the following supporting documentation in concise written narrative form:

(a) Evidence of applicant's legal existence and authority;

(b) Evidence of tax-exempt status from the Internal Revenue Service (IRS);

(c) A short statement of applicant's experience in providing services similar to those proposed;

(d) A brief description of successfully completed projects including the need that was identified and objectives accomplished;

(e) The latest financial information to show the applicant's financial capacity to carry out the proposed work;

(f) A list of proposed services to be provided;

(g) An estimated breakdown of costs (direct and indirect) including those to be funded by grantee as well as other sources. Sufficient detail should be provided to permit the approving official to determine reasonableness, applicability, and eligibility;

(h) Evidence that a financial management system is in place or proposed;

(i) A description of the type of technical assistance to be provided and the tasks to be contracted;

(j) A description of how the effectiveness and results of the proposed TAT/RWTS project will be measured;

(k) Number of personnel on staff or to be contracted to provide the service and their experience with similar projects;

(l) A statement indicating the maximum number of months it would take to complete the project; and

(m) Explanation of the cost effectiveness of the project.

(3) Applicants must submit a flexible work plan/project proposal.

The proposal will outline the project in sufficient detail to provide a reader with a clear understanding of how the proposed TAT/RWTS project will address the technical assistance needs of RUS eligible sewer utilities in historically impoverished communities in areas which have had difficulty installing traditional wastewater treatment systems due to soil conditions.

(4) The applicant must provide evidence of compliance with other federal statutes, including but not limited to the following:

(a) Debarment and suspension information is required in accordance with 2 CFR part 417 (Nonprocurement Debarment and Suspension) supplemented by 2 CFR part 180, if it applies. The section heading is “What information must I provide before entering into a covered transaction with a Federal agency?” located at 2 CFR 180.335. It is part of OMB's Guidance for Grants and Agreements concerning Government-wide Debarment and Suspension.

(b) All of your organization's known workplaces by including the actual address of buildings (or parts of buildings) or other sites where work under the award takes place. Workplace identification is required under the drug-free workplace requirements in Subpart B of 2 CFR part 421, which adopts the Governmentwide implementation (2 CFR part 182) of the Drug-Free Workplace Act.

(c) 2 CFR parts 200 and 400 (Uniform Administrative Requirements, Cost Principles and Audit Requirements for Federal Awards).

(d) 2 CFR part 182 (Governmentwide Requirements for Drug-Free Workplace (Financial Assistance)) and 2 CFR part 421 (Requirements for Drug Free Workplace (Financial Assistance)).

(e) Executive Order 13166, “Improving Access to Services for Persons with Limited English Proficiency.” For information on limited English proficiency and agency-specific guidance, go to http://www.lep.gov.

C. DUNS Number and SAM

To be eligible (unless you are excepted under 2 CFR 25.110(b), (c) or (d)), you are required to do the following:

(1) Provide a valid DUNS number in your application. The DUNS number can be obtained at no cost via a toll-free request line at (866) 705-5711;

(2) Register in SAM before submitting your application. You may register in SAM at no cost at https://www.sam.gov/portal/public/SAM/. You must provide your SAM CAGE Code and expiration date. When registering in SAM, you must indicate you are applying for a federal financial assistance project or program or are currently the recipient of funding under any federal financial assistance project or program; and

(3) Maintain active and current SAM registration. The SAM registration must remain active with current information at all times while the Agency is considering an application or while a federal grant award or loan is active. To maintain the registration in the SAM database, the applicant must review and update the information in the SAM database annually from date of initial registration or from the date of the last update. The applicant must ensure that the information in the database is current, accurate, and complete. Applicants must ensure they complete the Financial Assistance General Certifications and Representations in SAM.

If you have not fully complied with all applicable DUNS and SAM requirements, the Agency may determine that the applicant is not qualified to receive a federal award and the Agency may use that determination as a basis for making an award to another applicant. In accordance with OMB Memoranda M-20-26, the Agency can accept an application without an active SAM registration. However, the registration must be completed before an award is made. Current registrants in SAM with active registrations expiring before May 16, 2020 will be afforded a one-time extension of 60 days. Please refer to Section F for additional submission requirements that apply to grantees selected for this program.

D. Submission Dates and Times

In order to be considered for funding, applications must be received by the specified date in the DATES section at the beginning of this notice. RUS will acknowledge the application's receipt by email to the applicant. The application will be reviewed for completeness to determine if it contains all of the items required. In order to be considered for funds under this notice, applications must be deemed complete and must be received by Grants.gov by the deadline specified in the DATES section of this notice.

E. Intergovernmental Review

Executive Order (E.O.) 12372, Intergovernmental Review of Federal Programs, applies to this program. This E.O. requires that federal agencies provide opportunities for consultation on proposed assistance with state and local governments. Many states have established a Single Point of Contact (SPOC) to facilitate this consultation. For a list of states that maintain a SPOC, please see the White House website: https://www.whitehouse.gov/wp-content/uploads/2017/11/SPOC-Feb.-2018.pdf . If your state has a SPOC, you may submit a copy of the application directly for review. Any comments obtained through the SPOC must be provided to your State Office for consideration as part of your application. If your state has not established a SPOC, or if you do not want to submit a copy of the application, our State Offices will submit your application to the SPOC or other appropriate agency or agencies.

F. Compliance With Other Federal Statutes and Other Submission Requirements

(1) Other Federal Statutes. The applicant must certify to compliance with other Federal Statutes and regulations by completing the Financial Assistance General Certification and Representations in SAM, including, but not limited to the following:

(a) 7 CFR part 15, subpart A—Nondiscrimination in Federally Assisted Programs of the Department of Agriculture—Effectuation of Title VI of the Civil Rights Act of 1964. Civil Rights compliance includes, but is not limited to the following:

(i) Collect and maintain data provided by ultimate recipients on race, sex, and national origin and ensure that ultimate recipients collect and maintain this data. Race and ethnicity data will be collected in accordance with Office of Management and Budget (OMB) Federal Register Notice, “Revisions of the Standards for the Classification of Federal Data on Race and Ethnicity” (published October 30, 1997 at 62 FR 58782). Sex data will be collected in accordance with Title IX of the Education Amendments of 1972. These items should not be submitted with the application but should be available upon request by RUS; and

(b) The applicant and the ultimate recipient must comply with Title VI of the Civil Rights Act of 1964, Title IX of the Education Amendments of 1972, the Americans with Disabilities Act (ADA), Section 504 of the Rehabilitation Act of 1973, the Age Discrimination Act of 1975, Executive Order 12250, and 7 CFR 1901, subpart E;

(b) 2 CFR parts 200 and 400 (Uniform Administrative Requirements, Cost Principles and Audit Requirements for Federal Awards), or any successor regulations;

(c) Executive Order 13166, “Improving Access to Services for Persons with Limited English Proficiency.” For information on limited English proficiency and agency-specific guidance, go to http://www.lep.gov/; and

(d) Federal Obligation Certification on Delinquent Debt.

VI. Application Review Information

A. Criteria

All applications that are complete and eligible will be scored and ranked competitively. The categories for scoring criteria used are the following:

Scoring criteria | Points
(1) Scope of Assistance: Proposed services to be provided | Up to 15 points.
(2) Degree of Expertise: Applicant's experience in providing services similar to those proposed and/or description of successfully completed projects including the need that was identified and objectives accomplished | Up to 15 points.
(3) Applicant Resource (staff vs. contract personnel) | Up to 10 points.
(4) Goals/Objectives: Goals/objectives are clearly defined and tied to need, results and measurable outcomes | Up to 10 points.
(5) Extent to which the work plan clearly articulates a well-thought-out approach to accomplishing objectives; and clearly defines how the applicant would respond to historically impoverished communities in areas which have had difficulty installing traditional wastewater treatment systems due to soil conditions | Up to 10 points.
(6) Financial Controls | Up to 5 points.
(7) Project Duration: Maximum number of months it would take to complete the project | Up to 5 points.
(8) Innovative Approach to Identifying and Targeting Wastewater Treatment | Up to 10 points.
(9) Direct Efforts Towards Identified Communities in Historically Impoverished Counties | Up to 10 points.
(10) Direct Efforts Towards Identified Communities in the Mid-South Region | Up to 10 points.

B. Review and Selection Process

(1) Incomplete or ineligible applications. If the application is incomplete or ineligible, RUS will return it to the applicant with an explanation. The RUS reserves the right to request additional information once an application is determined to be complete to minimize the risk of duplication of other federal efforts. The RUS grant offered to the successful applicant will be based on the submitted application and may be more narrowly tailored than the submitted application to meet rural community needs at the time of the offer or over the course of the grant period.

(2) The Reviewers. A review team will evaluate all applications and proposals based on the scoring criteria in paragraph A. of this section.

(3) Ranking of Qualifying Applications. Qualified applications will be ranked by their final score and selected for funding based on the highest scores. Due to the short application window and pilot nature of the program, the Agency expects to award a small number of grants under this notice. The Agency reserves the right to make no grant awards if all applications are incomplete and/or score below 65 points. Each applicant will be notified via email of the Agency's funding decision.

(4) Other Agency Determinations. In making its decision about your application, RUS may determine that your application is:

(a) Eligible and selected for funding;

(b) Eligible and offered fewer funds than requested;

(c) Eligible but not selected for funding; or

(d) Ineligible for the grant.

(5) Appeal Request. In accordance with 7 CFR part 1900, subpart B, the applicant generally has the right to appeal adverse decisions. Some adverse decisions cannot be appealed such as an award being denied RUS funding due to a lack of funds available for the grant program. However, an applicant may make a request to the National Appeals Division (NAD) to review the accuracy of the finding that the decision cannot be appealed. The appeal must be in writing and filed at the appropriate regional office, which can be found at www.nad.usda.gov or by calling (703) 305-1166.

(6) Grant Agreement. Applicants selected for funding will complete a grant agreement suitable to RUS, which outlines the terms and conditions of the grant award. Pursuant to the grant agreement, grant funds may be released over the course of the grant period in reimbursement of the performance of eligible, approved activities which do not duplicate similar federal efforts or tasks. The grant agreement may also include reporting and pre-approval requirements consistent with 7 CFR part 1775 which if not met, may result in a delay in reimbursement, disallowance of expense or a suspension of the grant.

(7) Reimbursement. Grantees will be reimbursed as follows:

(a) SF-270, “Request for Advance or Reimbursement,” will be completed by the grantee and submitted to the National Office along with the work product.

(b) Upon receipt of a properly completed SF-270, payment will ordinarily be made within 30 days.

(c) Any change in the scope of the project, budget adjustments of more than 10 percent of the total budget, or any other significant change in the project must be reported to and approved by the approving official by written amendment to the Grant Agreement. Any change not approved may be cause for termination of the grant.

C. Other Requirements

In order to be considered for funds, complete applications must be received by the deadline specified in the DATES section of this Notice.

(1) Insufficient funds. If available funds are insufficient to fund the total amount of an application:

(a) The applicant will be notified and given the option to lower the grant request and accept the remaining funds. If the applicant agrees to lower the grant request, the applicant must certify that the purposes of the project will be met and provide the remaining total funds needed to complete the project.

(b) If two or more applications have the same priority score, both applicants will be notified and given the option to lower the grant requests and accept the remaining funds. If an applicant agrees to lower its grant request, the applicant must certify that the purposes of the project will be met and provide the remaining total funds needed to complete the project.

(2) Award considerations. All award considerations will be on a discretionary basis. In determining the amount of an award, the RUS will consider the amount requested, subject to available funds.

(3) Notification of funding determination. Applicants will be informed in writing by the RUS as to the funding determination of the application.

VII. Federal Award Administration Information

A. Federal Award Notices

(1) TAT/RWTS grants will be administered in accordance with Departmental Regulations, and as otherwise specified in this Notice.

(2) Applicants selected for funding will receive a signed notice of Federal award containing instructions on requirements necessary to proceed with execution and performance of the award.

(3) Applicants not selected for funding will be notified in writing and informed of any review and appeal rights. Awards to successfully appealed applications will be limited to available funding.

B. Administrative and National Policy Requirements

Additional requirements that apply to grantees selected for this program can be found in the Grants and Agreements regulations of the Department of Agriculture codified in 2 CFR parts 180, 400, 415, 417, 418, 421; 2 CFR parts 25 and 170; and 48 CFR 31.2.

In addition, all recipients of federal financial assistance are required to report information about first tier subawards and executive compensation (see 2 CFR part 170). You will be required to have the necessary processes and systems in place to comply with the Federal Funding Accountability and Transparency Act of 2006 (Pub. L. 109-282) reporting requirements (see 2 CFR 170.200(b), unless you are exempt under 2 CFR 170.110(b)).

The following additional requirements apply to grantees selected for this program:

• Execution of an agency approved Grant Agreement.

• Acceptance of a written Letter of Conditions.

• Submission of Form RD 1940-1, “Request for Obligation of Funds.”

• Submission of Form RD 1942-46, “Letter of Intent to Meet Conditions.”

• SF LLL, “Disclosure of Lobbying Activities,” if applicable.

You no longer must complete the following forms for acceptance of a federal award. This information is now collected through your registration or annual recertification in SAM.gov in the Financial Assistance General Certifications and Representations section:

• Form RD 400-4, “Assurance Agreement.”

• Form AD-1047, “Certification Regarding Debarment, Suspension, and Other Responsibility Matters-Primary Covered Transactions.”

• Form AD-1048, “Certification Regarding Debarment, Suspension, Ineligibility and Voluntary Exclusion. Lower Tier Covered Transactions.”

• Form AD-1049, “Certification Regarding Drug-Free Workplace Requirements (Grants).”

• Form AD-3031, “Assurance Regarding Felony Conviction or Tax Delinquent Status for Corporate Applicants.”

C. Reporting

Grantees shall constantly monitor performance to ensure that time schedules are being met, projected work by time periods is being accomplished, and other performance objectives are being achieved.

(1) SF-269 “Financial Status Report (short form)” and a project performance activity report will be required of all grantees on a quarterly basis, due 30 days after the end of each quarter.

(2) A final project performance report will be required with the last SF-269 due 90 days after the end of the last quarter in which the project is completed. The final report may serve as the last quarterly report.

(3) All grantees are to submit an original of each report to the National Office. The project performance reports should detail, in a narrative format, activities that have transpired for the specific time period.

(4) The grantee will provide an audit report or financial statements in accordance with Uniform Audit Requirements for Federal Awards at 2 CFR part 200, subpart F.

VIII. Federal Awarding Agency Contacts

For further information, contact: Lois East: telephone (660) 492-4268, email: lois.east@usda.gov. Persons with disabilities that require alternative means for communication should contact the USDA Target Center at (202) 720-2600 (voice).

IX. Other Information

A. Paperwork Reduction Act

The Information Collection and Recordkeeping requirements contained in this rule have been approved by an emergency clearance under OMB Control Number 0572-NEW. In accordance with the Paperwork Reduction Act of 1995 (44 U.S.C. chapter 35), RUS invites comments on this information collection for which the Agency intends to request approval from the Office of Management and Budget (OMB). RUS invites comments on any aspect of this collection of information including suggestions for reducing the burden. Comments may be submitted regarding this information collection by the following method:

• Federal eRulemaking Portal: Go to https://www.regulations.gov and, in the lower “Search Regulations and Federal Actions” box, select “RUS” from the agency drop-down menu, then click on “Submit.” In the Docket ID column, select Docket No. RUS-20-WATER-0035 to submit or view public comments and to view supporting and related materials available electronically. Information on using Regulations.gov, including instructions for accessing documents, submitting comments, and viewing the docket after the close of the comment period, is available through the site's “User Tips” link. Comments on this information collection must be received by December 4, 2020.

Copies of all forms, regulations, and instructions referenced in this NOSA may be obtained from RUS. Data furnished by the applicants will be used to determine eligibility for program benefits. Furnishing the data is voluntary; however, the failure to provide data could result in program benefits being withheld or denied.

The Information Collection and Recordkeeping requirements contained in this NOFA have been approved by an emergency clearance under OMB Control Number 0572-NEW. In accordance with the Paperwork Reduction Act of 1995 (44 U.S.C. chapter 35), RUS invites comments on this information collection for which the agency intends to request approval from the Office of Management and Budget (OMB).

Comments on this notice must be received by December 4, 2020. Comments are invited on (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronical, mechanical, or other technological collection techniques or other forms of information technology.

Title: Technical Assistance and Training for Innovative Regional Wastewater Treatment Solutions (TAT/RWTS) Grant Pilot Program.

Type of Request: New collection.

Abstract: The TAT/RWTS Grant Pilot Program was authorized by the Further Consolidated Appropriations Act, 2020, for the study and design of innovative treatment solutions of regional wastewater systems for historically impoverished communities that have had difficulty installing traditional wastewater treatment systems due to soil conditions. Qualified regional consortiums will receive TAT/RWTS grant funds to identify and evaluate economically feasible, innovative regional solutions to wastewater treatment concerns for historically impoverished communities in areas which have had difficulty installing traditional wastewater treatment systems due to soil conditions. Grants are for wastewater-related technical assistance, including such services as feasibility studies, preliminary design assistance and supervision, oversight, or training for the development of an application for financial assistance.

Grantees will be expected to provide the Agency with a detailed report to include the area to be served, the issues with the present method of wastewater discharge, the alternatives and innovative solutions to the wastewater issue, the long-term cost and effect of the solution, the affordability including possible funding sources, potential treatment, staff training needs, and lifecycle cost analysis.

Estimate of Burden: Public reporting burden for this collection of information is estimated to average 4.5 hours per response.

Respondents: Regional consortia of higher education, academic health and research institutes, or economic development entities.

Estimated Number of Respondents: 3.

Estimated Number of Responses per Respondent: 1.

Estimated Total Annual Burden and Record Keeping Hours on Respondents: 242 hours.

Copies of this information collection can be obtained from MaryPat Daskal, Regulatory Division Team 2, Rural Development Innovation Center, U.S. Department of Agriculture, 1400 Independence Ave. SW, Stop 1522, Washington, DC 20250. Phone: 202-720-7853.

All responses to this information collection and recordkeeping notice will be summarized and included in the request for OMB approval. All comments will also become a matter of public record.

B. Nondiscrimination Statement

The U.S. Department of Agriculture (USDA) prohibits discrimination against its customers, employees, and applicants for employment on the basis of race, color, national origin, age, disability, sex, gender identity, reprisal and where applicable, political beliefs, marital status, familiar or parental status, religion, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or complete the form at any USDA office, or call (866) 632-9992 to request the form. You may also write a letter containing all of the information requested in the form. Send your completed complaint form or letter to us by mail at U.S. Department of Agriculture, Director, Office of Adjudication, 1400 Independence Avenue SW, Washington, DC 20250-9410, by fax (202) 690-7442 or email at program.intake@usda.gov.

Individuals who are deaf, hard of hearing or have speech disabilities and wish to file either an EEO or program complaint, please contact USDA through the Federal Relay Service at (800) 877-8339 or (800) 845-6136 (in Spanish).

Persons with disabilities, who wish to file a program complaint, please see information above on how to contact us directly by mail or by email. If you require alternative means of communication for program information, (e.g., Braille, large print, audiotape, etc.) please contact USDA's TARGET Center at (202) 720-2600 (voice and TDD).

Chad A. Rupe,
Administrator, Rural Utilities Service.

[FR Doc. 2020-21924 Filed 10-2-20; 8:45 am]

BILLING CODE P